DEPARTMENT OF DEFENSE

Department of the Army, Corps of Engineers

Proposed Development of the Alaska Stand Alone Gas Pipeline Project (ASAP), From the North Slope to South Central Alaska, Draft Environmental Impact Statement (DEIS)

AGENCY: U.S. Army Corps of Engineers, DoD.

ACTION: Extension of public comment period.

SUMMARY: In the January 20, 2012, issue of the Federal Register (77 FR No. 13), the U.S. Army Corps of Engineers (Corps) published its Notice of Availability for the ASAP DEIS for public comment. In that notice, the Corps stated that written comments must be submitted on or before March 5, 2013. Instructions for submitting comments are provided in the January 20, 2010, Federal Register notice. In response to scheduling conflicts for public meetings, the Corps has decided to extend the public comment period to April 4, 2012.

FOR FURTHER INFORMATION CONTACT: Ms. Mary Romero, Project Manager, Alaska District Regulatory Division, (907) 753-2773

SUPPLEMENTARY INFORMATION: None.

Dated: March 1, 2012.
William Keller,
North Branch Chief, Alaska District Regulatory Division, JBER, AK 99506, U.S. Army Corps of Engineers.

[FR Doc. 2012-5665 Filed 3-7-12; 8:45 am]

BILLING CODE 3720-58-P